SECURITIES AND EXCHANGE COMMISSION

Issuer Delisting; Notice of Application of Environmental Safeguards, Inc., To Withdraw Its Common Stock, $.001 Par Value, From Listing and Registration on the American Stock Exchange LLC File No. 1-13869

September 20, 2002.

Environmental Safeguards, Inc., a Nevada corporation (“Issuer”), has filed an application with the Securities and Exchange Commission (“Commission”), pursuant to section 12(d) of the Securities Exchange Act of 1934 (“Act”) ¹ and Rule 12d2-2(d) thereunder,² to withdraw its Common Stock, $.001 par value (“Security”), from listing and registration on the American Stock Exchange LLC (“Amex” or “Exchange”).

¹ 15 U.S.C. 781(d).

² 17 CFR 240.12d2-2(d).

The Issuer stated in its application that it has met the requirements of Amex Rule 18 by complying with all applicable laws in effect in the state of Nevada, in which it is incorporated, and with the Amex's rules governing an issuer's voluntary withdrawal of a security from listing and registration.

The Board of Directors (“Board”) of the Issuer unanimously approved a resolution on August 30, 2002 to withdraw the Issuer's Security from listing on the Amex. The Board considered the critical cash needs, annual cost, and the questionable value to the shareholders in making its decision to withdraw the Security from listing on the Amex. The Board felt that it is in the best interest of the shareholders to voluntarily withdraw from the Amex and seek quotation of its Security on the OTC Bulletin Board. The Issuer's application relates solely to the Security's withdrawal from listing on the Amex and from registration under section 12(b) of the Act ³ and shall not affect its obligation to be registered under section 12(g) of the Act.⁴

³ 15 U.S.C. 78l(b).

⁴ 15 U.S.C. 78l (g).

Any interested person may, on or before October 11, 2002, submit by letter to the Secretary of the Securities and Exchange Commission, 450 Fifth Street, NW., Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 02-24474 Filed 9-25-02; 8:45 am]

BILLING CODE 8010-01-M